DEPARTMENT OF DEFENSE

Department of the Air Force

Notice of Intent (NOI) To Prepare an Environmental Impact Statement (EIS) for a Proposed Aircraft Conversion for the Massachusetts National Guard at Westfield-Barnes Airport, Westfield, MA

AGENCY: Department of the Air Force, National Guard Bureau, DOD.

ACTION: Notice of intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the National Guard Bureau is issuing this notice to advise the public of its intent to prepare an EIS to assess the potential environmental impacts that could result from an aircraft conversion and implementation of the proposed construction and demolition program for the Massachusetts National Guard at Westfield-Barnes Airport in Westfield, Massachusetts. Additionally, the Federal Aviation Administration (FAA), Westfield-Barnes Airport, and the Massachusetts Aeronautics Commission (MAC) join the National Guard Bureau as cooperating agencies. The proposal consists of an aircraft conversion from 15 A-10 primary assigned aircraft (PAA) and 2 backup aircraft inventory (BAI) to 18 F-15 PAA and 2 BAI aircraft. This conversion is a result of the 2005 Base Realignment and Closure (BRAC) Commission Final and Approved Recommendations. In association with the aircraft conversion, the current close air support mission associated with the A-10 aircraft would change to an air superiority/air sovereignty alert mission associated with the F-15 aircraft. As part of the aircraft conversion and mission change, the 104th Fighter Wing (104 FW) would have an increase of 139 full-time and 111 part-time authorized personnel; and the Army National Guard would have in increase of 25 full-time and 274 part-time. To accommodate these changes, the Massachusetts National Guard proposes to implement several construction projects at their installation at Westfield-Barnes Airport, as well as to correct several existing facility deficiencies through modifications to existing facilities and construction of several new facilities. In addition to the proposed action, the no-action alternative will be analyzed in the EIS. The National Guard Bureau will conduct a scoping meeting to solicit public input concerning the proposal. The scoping process will help identify issues to be addressed in the environmental analysis. In addition to the comments received at the scoping meetings, written comments on the scope of the EIS will be accepted by the National Guard Bureau at the address below through September 1, 2006. The National Guard Bureau will accept relevant comments at any time during the environmental analysis process.

DATES: Notices will be posted and published in the Springfield Union News, The Sunday Republican, Westfield Evening News, and Daily Hampshire Gazette. The scoping meetings will be held at Westfield North Middle School, 350 Southampton Road, Westfield, Massachusetts, August 15, from 6-9 p.m.

FOR FURTHER INFORMATION CONTACT: Please direct any written comments or requests for information to Captain Matthew Mutti, 104th FW/PA, and 175 Falcon Drive, Westfield, MA 01085-1482l (413) 568-9151 ext.1800; matthew.mutti@mabarn.ang.af.mil.

Bao-Ahn Trinh,
Air Force Federal Register Liaison Officer.

[FR Doc. E6-11594 Filed 7-20-06; 8:45 am]

BILLING CODE 5001-05-P